DEPARTMENT OF ENERGY

Federal Energy Regulatory Commission

Combined Notice of Filings #2

Take notice that the Commission received the following electric rate filings:

Docket Numbers: ER14-2462-001.

Applicants: PJM Interconnection, L.L.C.

Description: Tariff Amendment per 35.17(b): Amendment to Filing, Queue No. W3-028, Substitute Original SA Nos. 3899 and 3900 to be effective 6/17/2014.

Filed Date: 8/29/14.

Accession Number: 20140829-5178.

Comments Due: 5 p.m. ET 9/19/14.

Docket Numbers: ER14-2743-000.

Applicants: Central Maine Power Company.

Description: § 205(d) rate filing per 35.13(a)(2)(iii): Blue Sky West II, LLC First Revised Engineering & Procurement Agreement to be effective 3/20/2014.

Filed Date: 8/29/14.

Accession Number: 20140829-5099.

Comments Due: 5 p.m. ET 9/19/14.

Docket Numbers: ER14-2744-000.

Applicants: Central Maine Power Company.

Description: § 205(d) rate filing per 35.13(a)(2)(iii): Blue Sky West II, LLC Second Revised Engineering & Procurement Agreement to be effective 7/17/2014.

Filed Date: 8/29/14.

Accession Number: 20140829-5100.

Comments Due: 5 p.m. ET 9/19/14.

Docket Numbers: ER14-2745-000.

Applicants: Southern California Edison Company.

Description: § 205(d) rate filing per 35.13(a)(2)(iii): SGIA with Sierra Solar Greenworks LLC to be effective 8/30/2014.

Filed Date: 8/29/14.

Accession Number: 20140829-5102.

Comments Due: 5 p.m. ET 9/19/14.

Docket Numbers: ER14-2746-000.

Applicants: Arizona Public Service Company.

Description: § 205(d) rate filing per 35.13(a)(2)(iii): Rate Schedule No. 217 Ex B.CLOPAD Rev 1 and Ex B.PAD-LIB Rev 3 to be effective 10/29/2014.

Filed Date: 8/29/14.

Accession Number: 20140829-5123.

Comments Due: 5 p.m. ET 9/19/14.

Docket Numbers: ER14-2747-000.

Applicants: Midcontinent Independent System Operator, Inc.

Description: § 205(d) rate filing per 35.13(a)(2)(iii): 2014-08-29 Resource Adequacy Clean-Up Filing to be effective 10/28/2014.

Filed Date: 8/29/14.

Accession Number: 20140829-5128.

Comments Due: 5 p.m. ET 9/19/14.

Docket Numbers: ER14-2748-000.

Applicants: San Diego Gas & Electric Company.

Description: § 205(d) rate filing per 35.13(a)(2)(iii): SDGE TO Tariff Appendix IX to be effective 1/1/2015.

Filed Date: 8/29/14.

Accession Number: 20140829-5198.

Comments Due: 5 p.m. ET 9/19/14.

Docket Numbers: ER14-2749-000.

Applicants: New England Power Pool Participants Committee.

Description: § 205(d) rate filing per 35.13(a)(2)(iii): September 2014 Membership Filing to be effective 8/1/2014.

Filed Date: 8/29/14.

Accession Number: 20140829-5201.

Comments Due: 5 p.m. ET 9/19/14.

Take notice that the Commission received the following open access transmission tariff filings:

Docket Numbers: OA14-6-000.

Applicants: Limon Wind II, LLC, Limon Wind III, LLC.

Description: Petition for Waiver from Order Nos. 888, 889 and 890, and Request for Waiver of the 60-Day Rule of Limon Wind II, LLC and Limon Wind III, LLC.

Filed Date: 8/29/14.

Accession Number: 20140829-5165.

Comments Due: 5 p.m. ET 9/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2014-21304 Filed 9-5-14; 8:45 am]

BILLING CODE 6717-01-P